NUCLEAR REGULATORY COMMISSION

[Docket Nos. 50-259, 50-260, and 50-296; NRC-2024-0030]

Tennessee Valley Authority; Browns Ferry Nuclear Plant, Units 1, 2, and 3; Final Environmental Impact Statement

AGENCY: Nuclear Regulatory Commission.

ACTION: Notice; issuance.

SUMMARY: The U.S. Nuclear Regulatory Commission (NRC) has published a final Environmental Impact Statement (EIS), issued as NUREG-1437, Supplement 21, “Generic Environmental Impact Statement for License Renewal of Nuclear Plants, Supplement 21, Second Renewal, Regarding Subsequent License Renewal of Browns Ferry Nuclear Power Plant, Units 1, 2, and 3, Final Report.” This EIS evaluates the environmental impacts of license renewal of Facility Operating License Nos. DPR-33, DPR-52, and DPR-68 for an additional 20 years of operation for Browns Ferry Nuclear Plant, Units 1, 2, and 3 (Browns Ferry). Browns Ferry is located on the north shore of Wheeler Reservoir at Tennessee River Mile 294, approximately 10 miles northwest of Decatur, Alabama, and 10 miles southwest of Athens, Alabama.

DATES: NUREG-1437, Supplement 21, is available as of August 21, 2025.

ADDRESSES: Please refer to Docket ID NRC-2024-0030 when contacting the NRC about the availability of information regarding this document. You may obtain publicly available information related to this document using any of the following methods:

• Federal Rulemaking Website: Go to https://www.regulations.gov and search for Docket ID NRC-2024-0030. Address questions about Docket IDs in Regulations.gov to Bridget Curran; telephone: 301-415-1003; email: Bridget.Curran@nrc.gov. For technical questions contact the individual(s) listed in the FOR FURTHER INFORMATION CONTACT section of this document.

• NRC's Agencywide Documents Access and Management System (ADAMS): You may access publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. Final Supplement 21, Second Renewal, to the GEIS, NUREG-1437, is available in ADAMS under Accession No. ML25230A077.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

• Public Library: A copy of the Final Supplement 21, Second Renewal, to the GEIS for License Renewal of Nuclear Plants, NUREG-1437, regarding the proposed SLR of Renewed Facility Operating License Nos. DPR-33, DPR-52, and DPR-68 for an additional 20 years of operation for Browns Ferry, will be available for public review at the Athens-Limestone County Public Library, 603 S Jefferson Street, Athens, AL 35611.

FOR FURTHER INFORMATION CONTACT: Jessica Umaña, Office of Nuclear Material Safety and Safeguards, U.S. Nuclear Regulatory Commission, Washington, DC 20555-0001; telephone: 301-415-5207; email: Jessica.Umana@nrc.gov.

SUPPLEMENTARY INFORMATION:

I. Background

In accordance with section 51.118 of title 10 of the Code of Federal Regulations (10 CFR), “Final environmental impact statement—notice of availability,” the NRC is making available for public inspection NUREG-1437, Supplement 21, Second Renewal, regarding the subsequent license renewal of Tennessee Valley Authority (TVA), renewed Facility Operating License No. DPR-33, DPR-52, and DPR-68 for an additional 20 years of operation for Browns Ferry. A notice of availability of the draft EIS (NUREG-1437, Supplement 21, Draft for Comment) was published in the Federal Register on May 30, 2025 (90 FR 23074). The U.S. Environmental Protection Agency issued its Notice of Availability on May 30, 2025 (90 FR 23050). The public comment period on the draft EIS ended on July 14, 2025, and the comments received on the draft EIS are addressed in the final EIS (NUREG-1437, Supplement 21, Second Renewal, Final Report).

II. Discussion

The draft EIS (NUREG-1437, Supplement 21, Second Renewal, Draft for Comment) was issued for public comment on May 21, 2025. The final EIS (NUREG-1437, Supplement 17, Second Renewal, Final Report) addresses the comments received on draft EIS. As discussed in Chapter 4 of the final EIS, the NRC staff has determined that the adverse environmental impacts of license renewal for Browns Ferry (i.e., the continued operation of Browns Ferry for a period of 20 years beyond the expiration date of the initial license) are not so great that preserving the option of license renewal for energy-planning decision-makers would be unreasonable. This recommendation is based on: (1) the analysis and findings in NUREG-1437, Generic Environmental Impact Statement for License Renewal of Nuclear Plants; (2) information provided in TVA's EIS and the environmental report, as supplemented, and other documents submitted by TVA; (3) consultation with Federal, State, Tribal, and local governmental agencies; (4) the NRC staff's independent environmental review; and (5) consideration of public comments received during the scoping process and on the draft EIS (NUREG-1437, Supplement 21, Second Renewal, Draft for Comment).

Dated: August 21, 2025.
For the Nuclear Regulatory Commission.
Kimyata Savoy,
Acting Deputy Director, Division of Rulemaking, Environmental, and Financial Support, Office of Nuclear Material Safety and Safeguards.

[FR Doc. 2025-16595 Filed 8-28-25; 8:45 am]

BILLING CODE 7590-01-P